ENVIRONMENTAL PROTECTION AGENCY

[FRL-8575-6]

Science Advisory Board Staff Office; Notification of an Upcoming Meeting of the Science Advisory Board Asbestos Committee

AGENCY: Environmental Protection Agency (EPA).

ACTION: Notice.

SUMMARY: The Environmental Protection Agency (EPA or Agency) Science Advisory Board (SAB) Staff Office announces a public meeting of the SAB Asbestos Committee to provide consultative advice on the Agency's proposed approach for the estimation of cancer potency factors for inhalation exposure to asbestos.

DATES: The meeting dates are Monday, July 21, 2008 from 9 a.m. to 5:30 p.m. through Tuesday, July 22, 2008 from 8:30 a.m. to 4 p.m. (Eastern Time).

ADDRESSES: The meeting will be held in the Embassy Suites Hotel, located at 1259 22nd Street, NW., Washington, DC.

FOR FURTHER INFORMATION CONTACT: Members of the public who wish to obtain further information about this consultation may contact Ms. Vivian Turner, Designated Federal Officer (DFO). Ms. Turner may be contacted at the EPA Science Advisory Board (1400F), U.S. Environmental Protection Agency, 1200 Pennsylvania Avenue, NW., Washington, DC 20460; or via telephone/voice mail, (202) 343-9697; fax (202) 233-0643; or e-mail at turner.vivian@epa.gov. General information about the EPA SAB, as well as any updates concerning the meeting announced in this notice, may be found on the SAB Web site at http://www.epa.gov/sab.

SUPPLEMENTARY INFORMATION: Pursuant to the Federal Advisory Committee Act, Public Law 92-463, notice is hereby given that the SAB Asbestos Committee will hold a public meeting to provide consultative advice on the Agency's proposed approach for the estimation of cancer potency factors for inhalation exposure to asbestos. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: The EPA Office of Solid Waste and Emergency Response (OSWER) has developed a proposed approach for an incremental improvement to the current method that EPA employs for estimating cancer risk from inhalation exposure to asbestos at Superfund sites. The proposed approach serves as an intermediate step in a larger Agency-wide review and update of its asbestos risk assessment. OSWER has requested the SAB provide consultative advice on its Proposed Approach for Estimation of Bin-Specific Cancer Potency Factors for Inhalation Exposure to Asbestos. After receiving advice from the SAB, OSWER plans to revise the proposed approach, and seek additional advice from SAB on the revised approach.

In response to OSWER's request, the SAB Staff Office announced that it was forming an Asbestos Committee in 71 FR no. 162 (pages 48926-48927) and 72 FR no. 207 (pages 60844-60845). The roster and biosketches of members of the Asbestos Committee are posted on the SAB Web site at http://www.epa.gov/sab.

Availability of Meeting Materials: The draft Proposed Approach for Estimation of Bin-Specific Cancer Potency Factors for Inhalation Exposure to Asbestos to be reviewed by the SAB Asbestos Committee will be posted on the OSWER Web site at http://www.epa.gov/oswer/riskassessment/asbestos/2008.

The EPA technical contact for this proposed approach is Mr. Stiven Foster, of EPA's Office of Solid Waste and Emergency Response. Mr. Foster may be contacted by telephone at (202) 566-1911 or via e-mail at foster.stiven@epa.gov. The agenda and other material for the upcoming public meeting will be posted on the SAB Web site at http://www.epa.gov/sab.

Procedures for Providing Public Input: Interested members of the public may submit relevant written or oral information for the SAB Committee to consider on the topics under review. Oral Statements: In general, individuals or groups requesting an oral presentation at a public meeting will be limited to five minutes per speaker, with no more than a total of one hour for all speakers. Interested parties should contact Ms. Turner, DFO, in writing (preferably via e-mail) at the contact information noted above, by July 7, 2008 to be placed on a list of public speakers for the meeting.

Written Statements: Written statements should be received in the SAB Staff Office by July 7, 2008 so that the information may be made available to the SAB Panel members for their consideration. Written statements should be supplied to the DFO in the following formats: One hard copy with original signature, and one electronic copy via e-mail (acceptable file format: Adobe Acrobat PDF, WordPerfect, MS Word, MS PowerPoint, or Rich Text files in IBM-PC/Windows 98/2000/XP format).

Accessibility: For information on access or services for individuals with disabilities, please contact Ms. Turner at the phone number or e-mail address noted above, preferably at least ten days prior to the meeting to give EPA as much time as possible to process your request.

Dated: May 28, 2008.
Vanessa T. Vu,
Director, EPA Science Advisory Board Staff Office.

[FR Doc. E8-12503 Filed 6-3-08; 8:45 am]

BILLING CODE 6560-50-P